DEPARTMENT OF ENERGY

Federal Energy Regulatory Commission

[Project No. 10198-033]

City of Pelican, AK; Notice of Scoping Period Requesting Comments on Environmental Issues for the Pelican Hydroelectric Project

Take notice that the following hydroelectric application has been filed with the Commission and is available for public inspection.

a. Type of Application: New Minor License.¹

¹ The licensee filed an application for a subsequent license, but because the existing license did not include a waiver of sections 14 and 15 of the FPA, any license issued in response to this application will be a new license pursuant to 18 CFR 16.2(a).”

b. Project No.: 10198-033.

c. Date filed: September 16, 2024.

d. Applicant: City of Pelican.

e. Name of Project: Pelican Hydroelectric Project (Pelican Project or project).

f. Location: The project is located on Pelican Creek in the City of Pelican, Alaska. The project does not occupy federal land.

g. Filed Pursuant to: Federal Power Act 16 U.S.C. 791(a)-825(r).

h. Applicant Contact: Mayor Barry Bryant and City Administrator Susana Stinnett, City of Pelican, P.O. Box 737, Pelican, AK 99832; 907-735-2202; mayor@pelicancity.org or administrator@pelicancity.org.

i. FERC Contact: Ingrid Brofman, Project Coordinator, Northwest Branch, Division of Hydropower Licensing; telephone at (202) 502-8347; email at ingrid.brofman@ferc.gov.

j. The staff of the Federal Energy Regulatory Commission (FERC or Commission) will prepare an environmental document that will discuss the environmental effects of relicensing the Pelican Hydroelectric Project. The Commission will use this environmental document in its decision-making process to determine whether to issue a new license for the project.

k. This notice announces the opening of the scoping process the Commission will use to gather input from the public and interested agencies regarding the project. This notice is intended to advise all participants as to the potential scope of the National Environmental Policy Act (NEPA) document and to seek additional information pertinent to this analysis. Commission staff does not intend to issue a separate scoping document.

As part of the NEPA review process, the Commission takes into account concerns the public may have about proposals and the environmental effects that could result from its action whenever it considers the issuance of a hydropower license. This gathering of public input is referred to as “scoping.” The main goal of the scoping process is to focus the analysis in the environmental document on the important environmental issues.

l. Scoping Comments: By this notice, the Commission requests written public comments on the scope of issues to address in the environmental document. To ensure that your comments are timely and properly recorded, please submit your comments so that the Commission receives them in Washington, DC on or before 5:00 p.m. Eastern Time on February 13, 2026.

Comments should focus on the potential environmental effects and reasonable alternatives. Your input will help Commission staff determine what issues to evaluate in the environmental document. Commission staff will consider all written comments during the preparation of the environmental document.

The Commission strongly encourages electronic filing. Please file scoping comments using the Commission's eFiling system at https://ferconline.ferc.gov/ FERCOnline.aspx. Commenters can submit brief comments up to 10,000 characters, without prior registration, using the eComment system at https://ferconline.ferc.gov/ QuickComment.aspx. You must include your name at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Pelican Hydroelectric Project (P-10198-033).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

m. The application is not ready for environmental analysis at this time.

n. Project Description: The Pelican Hydroelectric Project consists of the following existing facilities: (1) a 12-foot-wide by 22-foot-high rock-filled crib dam buttressed with steel A-frames impounding a reservoir with a net storage capacity of approximately 4.4 acre-feet at an elevation of 143 feet mean sea level; (2) a rectangular steel and concrete intake structure; (3) a 48-inch-diameter, 704-foot-long high density polyethylene pipe leading to a surge tank; (4) a 42-inch-diameter, 316-foot-long high density polyethylene penstock; (5) a powerhouse containing two generating units rated at 600 kW and 100 kW; (6) a 80-foot-long, 4.16-kilovolt transmission line; (7) a 480/4,160-volt, 0.75-megavolt-ampere step-up transformer; (8) a 500-foot-long access road; and (9) appurtenant facilities. The City of Pelican proposes to continue to operate the project in a run-of-river mode.

A copy of the application, with details of the proposed project, can be viewed on the Commission's website at http://www.ferc.gov, using the “eLibrary” link. Enter the project's docket number, excluding the last three digits in the docket number field, to access the document (P-10198). For assistance, contact FERC at FERCOnlineSupport@ferc.gov, or call toll-free, (866) 208-3676 or (202) 502-8659 (TTY).

o. NEPA Process and the Environmental Document: Any environmental document issued by the Commission will discuss effects that could occur as a result of the project's relicensing under the relevant general resource areas, such as:

• geology and soils;

• aquatic resources;

• terrestrial resources;

• threatened and endangered species;

• recreation, land use, and aesthetic resources;

• cultural resources; and

• developmental resources.

Commission staff will also evaluate reasonable alternatives to the proposed project or portions of the project and make recommendations on how to lessen or avoid effects on the various resource areas. Your comments will help Commission staff identify and focus on the issues that might have an effect on the human environment and potentially eliminate others from further discussion in the environmental document.

Following this scoping period, Commission staff will determine whether to prepare an Environmental Assessment (EA) or an Environmental Impact Statement (EIS). The EA or EIS will present Commission staff's independent analysis of the issues. If Commission staff prepares an EA, a Notice of Intent to Prepare an Environmental Assessment will be issued. The EA may be issued for an allotted public comment period. The Commission will consider timely comments on the EA before making its decision regarding the proposed project. If Commission staff prepares an EIS, a Notice of Intent to Prepare an Environmental Impact Statement will be issued. Staff will then prepare a draft EIS which will be issued for public comment. Commission staff will consider all timely comments received during the comment period on the draft EIS and revise the document, as necessary, before issuing a final EIS. Any EA or draft and final EIS will be available in electronic format in the public record through eLibrary. If eSubscribed, you will receive instant email notification when the environmental document is issued (see paragraph (q) of this notice for instructions on using eSubscription).

p. For public inquiries and assistance with making filings such as interventions, comments, or requests for rehearing, contact the Office of Public Participation at (202) 502-6595 or OPP@ferc.gov.

q. This notice is being distributed to the Commission's official mailing list for the project and any additional entities on the applicant's distribution list. You can access the Commission's official mailing list for this project at https://ferconline.ferc.gov/MailListLOR.aspx?Type=MailList&ListVar=P-10198. If you want to receive future mailings for the project and are not included on the Commission's official mailing list, or if you wish to be removed from the Commission's official mailing list, please send your request by email to FERCOnlineSupport@ferc.gov. In lieu of an email request, you may submit a paper request. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All written or emailed requests must specify your wish to be added to or removed from the mailing list, and must clearly identify the following on the first page: Pelican Hydroelectric Project No. 10198-033.

Additionally, the Commission offers a free service called eSubscription, which makes it easy to stay informed of all issuances and submittals regarding the dockets/projects to which you subscribe. These instant email notifications are the fastest way to receive notification and provide a link to the document files, which can reduce the amount of time you spend researching proceedings. Go to https://www.ferc.gov/ferc-online/overview to register for eSubscription.

In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-10198). For assistance, contact FERC at FERCOnlineSupport@ferc.gov, (866) 208-3676 (toll free), or (202) 502-8659 (TTY).

(Authority: 18 CFR 2.1)

Dated: January 14, 2026.
Debbie-Anne A. Reese,
Secretary.

[FR Doc. 2026-00980 Filed 1-16-26; 8:45 am]

BILLING CODE 6717-01-P